DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 8W-25A, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on June 1, 2024, through June 30, 2024. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Health Systems Bureau, 5600 Fishers Lane, 8W-25A, Rockville, Maryland 20857. The Court's caption (Petitioner's Name v. Secretary of HHS) and the docket number assigned to the petition should be used as the caption for the written submission. Chapter 35 of Title 44, United States Code, related to paperwork reduction, does not apply to information required for purposes of carrying out the Program.

Carole Johnson,
Administrator.

List of Petitions Filed

1. Patrick Wey, Portland, Oregon, Court of Federal Claims No: 24-0851V

2. Rebecca Drone, Milton, Florida, Court of Federal Claims No: 24-0854V

3. Marie Moray, Scarsdale, New York, Court of Federal Claims No: 24-0855V

4. Richard Bieber, Centennial, Colorado, Court of Federal Claims No: 24-0856V

5. Amber Hendzel, Monroe, Michigan, Court of Federal Claims No: 24-0862V

6. Chloe Wurth, Remsen, Iowa, Court of Federal Claims No: 24-0864V

7. Ida Rothschild, Portland, Maine, Court of Federal Claims No: 24-0865V

8. Serah G. Starcher on behalf of G.S., Kaneohe, Hawaii, Court of Federal Claims No: 24-0866V

9. Sidney Wells, Grand Junction, Colorado, Court of Federal Claims No: 24-0870V

10. Mary Ellen Maurer, Racine, Wisconsin, Court of Federal Claims No: 24-0876V

11. Lee Ann Mason, Parkersburg, West Virginia, Court of Federal Claims No: 24-0879V

12. Charles Wolle, Windom, Minnesota, Court of Federal Claims No: 24-0880V

13. Joshua Kasabian, Ashburn, Virginia, Court of Federal Claims No: 24-0881V

14. Helen Gant-Farley, Oak Lawn, Illinois, Court of Federal Claims No: 24-0885V

15. Andrea Adams, Quakertown, Pennsylvania, Court of Federal Claims No: 24-0888V

16. Gina Brigner, Lancaster, Ohio, Court of Federal Claims No: 24-0889V

17. Terin Ronson, St. Augustine, Florida, Court of Federal Claims No: 24-0895V

18. Sherri Berry on behalf of A.B., Plaquemine, Louisiana, Court of Federal Claims No: 24-0896V

19. Terry Bryant, Seminole, Florida, Court of Federal Claims No: 24-0897V

20. Dianne Huerta, Boston, Massachusetts, Court of Federal Claims No: 24-0900V

21. Linda C. Culliton, Rochester, New York, Court of Federal Claims No: 24-0901V

22. Rodney Lyon, Fresno, California, Court of Federal Claims No: 24-0902V

23. Kindra Nounou, Tacoma, Washington, Court of Federal Claims No: 24-0903V

24. Teresa Rowe, Boston, Massachusetts, Court of Federal Claims No: 24-0904V

25. Timothy Hake, Milford, Delaware, Court of Federal Claims No: 24-0905V

26. Lynn Louise Torreso on behalf of Kent Torreso, Deceased, Boston, Massachusetts, Court of Federal Claims No: 24-0906V

27. Katie Strickland, Houston, Texas, Court of Federal Claims No: 24-0912V

28. Dorian Sandlin, Franklin, Indiana, Court of Federal Claims No: 24-0915V

29. Oscar Arana on behalf of S.A., Orlando, Florida, Court of Federal Claims No: 24-0918V

30. Tina Rogers, Louisville, Kentucky, Court of Federal Claims No: 24-0920V

31. Autumn Hockaday, Houston, Texas, Court of Federal Claims No: 24-0921V

32. Kenneth Ault, Eureka, Missouri, Court of Federal Claims No: 24-0925V

33. Eva Santiago, Mount Juliet, Tennessee, Court of Federal Claims No: 24-0930V

34. Alyna Zimmerman, New York, New York, Court of Federal Claims No: 24-0932V

35. Matthew Dean, Wichita Falls, Texas, Court of Federal Claims No: 24-0934V

36. Christina Carter, Athens, Tennessee, Court of Federal Claims No: 24-0936V

37. Devin Hight, Bloomington, Minnesota, Court of Federal Claims No: 24-0937V

38. Sonya Hayes, Dadeville, Alabama, Court of Federal Claims No: 24-0938V

39. Barbara Respo Montgomery, Alabama Court of Federal Claims No: 24-0939V

40. Bonnie Jayne on behalf of H.H., Los Angeles, California, Court of Federal Claims No: 24-0941V

41. Raul Octavio Heredia, Los Angeles, California, Court of Federal Claims No: 24-0942V

42. Margaret Brown, Sarasota, Florida, Court of Federal Claims No: 24-0944V

43. Lori Christopherson, Plattsburgh, New York, Court of Federal Claims No: 24-0945V

44. Anubhav Bhatia and Khushbu Thakkar on behalf of S. B., Phoenix, Arizona, Court of Federal Claims No: 24-0946V

45. Genevieve Rathburn, Erie, Pennsylvania, Court of Federal Claims No: 24-0952V

46. Michael Nickels, San Diego, California, Court of Federal Claims No: 24-0953V

47. Shelby Friend, Newton, Mississippi, Court of Federal Claims No: 24-0959V

48. Janet Zimet, Clarksville, Tennessee, Court of Federal Claims No: 24-0961V

49. John Oliver, Folsom, Pennsylvania, Court of Federal Claims No: 24-0962V

50. Rebecca Brown, Lexington, Kentucky, Court of Federal Claims No: 24-0964V

51. Jessica Mora, San Diego, California, Court of Federal Claims No: 24-0965V

52. Kristi Strobel, Columbus, Ohio, Court of Federal Claims No: 24-0966V

53. Emily Gross, St. Clair Shores, Michigan, Court of Federal Claims No: 24-0967V

54. Heather Hurd, Saint Paul, Minnesota, Court of Federal Claims No: 24-0969V

55. Sheena Fluker, Little Rock, Arkansas, Court of Federal Claims No: 24-0971V

56. Marylou April Gracia, Storm Lake, Iowa, Court of Federal Claims No: 24-0972V

57. Ardeshir Adhami, San Francisco, California, Court of Federal Claims No: 24-0973V

58. Margarita Loukachkina, Baltimore, Maryland, Court of Federal Claims No: 24-0975V

59. Jeffrey Clements, Buckingham, Pennsylvania, Court of Federal Claims No: 24-0977V

60. Ellie Hopkins, St. Louis, Missouri, Court of Federal Claims No: 24-0978V

61. Timothy Rhoades, Boston, Massachusetts, Court of Federal Claims No: 24-0980V

62. Zenaida Viste, Bakersfield, California, Court of Federal Claims No: 24-0983V

63. Huetta Mateen-Pierce, Greenville, North Carolina, Court of Federal Claims No: 24-0984V

64. Korey Gruba, Rapid City, South Dakota, Court of Federal Claims No: 24-0985V

65. Erin C. McKee, Muscatine, Iowa, Court of Federal Claims No: 24-0987V

66. Vanessa L. Mobley-Knox, Las Cruces, New Mexico, Court of Federal Claims No: 24-0988V

67. Holly Riggs, Huntsville, Alabama, Court of Federal Claims No: 24-0989V

68. Linda Kerr, Roseville, California, Court of Federal Claims No: 24-0990V

69. Leiah Z. Roberts, Brainerd, Minnesota,Court of Federal Claims No: 24-0992V

70. Julie Munafo, Middletown, Rhode Island, Court of Federal Claims No: 24-0993V

71. Anna Martin, Boston, Massachusetts, Court of Federal Claims No: 24-0998V

72. Elaine Stevens, Columbus, Ohio, Court of Federal Claims No: 24-0999V

73. Howard A. Laster, Souderton, Pennsylvania, Court of Federal Claims No: 24-1000V

74. John Hurst, Wood River, Illinois, Court of Federal Claims No: 24-1002V

[FR Doc. 2024-17601 Filed 8-7-24; 8:45 am]

BILLING CODE 4165-15-P